DEPARTMENT OF HOUSING AND URBAN DEVELOPMENT

[Docket No. FR-7080-N-41]

30-Day Notice of Proposed Information Collection: Relocation Options Study OMB Control No.: 2528-NEW

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: October 4, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410-5000; email PaperworkReductionActOffice@hud.gov.

FOR FURTHER INFORMATION CONTACT: Anna P. Guido, Reports Management Officer, REE, Department of Housing and Urban Development, 451 7th Street SW, Room 8210, Washington, DC 20410; email: PaperworkReductionActOffice@hud.gov. telephone (202)-402-5535. This is not a toll-free number, HUD welcomes and is prepared to receive calls from individuals who are deaf or hard of hearing, as well as individuals with speech or communication disabilities. To learn more about how to make an accessible telephone call, please visit: https://www.fcc.gov/consumers/guides/telecommunications-relay-service-trs. Copies of available documents submitted to OMB may be obtained from Ms. Guido.

SUPPLEMENTARY INFORMATION: This notice informs the public that HUD is seeking approval from OMB for the information collection described in Section A.

The Federal Register notice that solicited public comment on the information collection for a period of 60 days was published on March 28, 2024 at 89 FR 21537.

A. Overview of Information Collection

Title of Information Collection: Relocation Options Study.

OMB Approval Number: 2528-0297.

Type of Request: New collection.

Form Number: N/A.

Description of the need for the information and proposed use: The Office of Policy Development and Research (PD&R), at the U.S. Department of Housing and Urban Development (HUD), is proposing the collection of information for the Relocation Options study.

Increasing threats of natural hazards due to climate change may necessitate the movement of households or entire communities to mitigate risk to people and properties. This research will conduct analysis of the efficacy of buyouts, relocation, and resettlement in mitigating hazard risk exposure; assess the potential adverse outcomes, inequities, and opportunity of such programs; and determine the needed capacity and coordination of Federal, state, and local levels to enable successful buyout, relocation, and resettlement initiatives. The goal of this research is to improve equity in how disaster recovery and mitigation funds are used for households that participate in buyout programs in communities that have received Community Development Block Grant-Disaster Recovery (CDBG-DR) grants or Community Development Block Grant Mitigation (CDBG-MIT) grants. Results from this research shall be interpretable to inform a framework for a pilot program and evaluation structure to inform the ongoing federal approach to hazard-related relocation. Currently, a “buyout” for CDBG-DR and CDBG-MIT grants means the acquisition of a property located in a floodway, floodplain, or other grantee-designated high-risk area, that is intended to reduce risk from future hazards.

This Federal Register Notice provides an opportunity to comment on the information collection for this study titled Relocation Options. The information collection is designed to support the Relocation Options study to better understand outcomes of households and communities that have participated in homeowner buyout programs using CDBG-DR or CDBG-MIT funds. This work will include a qualitative component and generate principles for equitable and responsible buyouts, relocation, and resettlement strategies. The study includes interviews of CDBG-DR grantees and program administrators, other relevant community stakeholders, and homeowners that have gone through a CDBG-DR or CDBG-MIT funded buyout process.

Information collection | Number of respondents | Frequency of response | Responses per annum | Burden hour per response | Annual burden hours | Hourly cost per response | Cost
Interviews with government stakeholders | 27 | 1 | 27 | 1 | 27 | $59.90 | $1,617.30
Interviews with community stakeholders | 27 | 1 | 27 | 1 | 27 | 43.93 | 1,186.11
Interviews with program participants | 15 | 1 | 15 | 1 | 15 | 43.93 | 658.95
Interview Total | 69 |  |  |  | 69 |  | 3,462.36
Informed consent to participate in the study—Government Stakeholders | 27 | 1 | 27 | 0.17 | 4.59 | 59.90 | 274.94
Informed consent to participate in the study—Community Stakeholders | 27 | 1 | 27 | 0.17 | 4.59 | 49.93 | 229.18
Informed consent to participate in the study—Program Participants | 15 | 1 | 15 | 0.17 | 2.55 | 49.93 | 127.32
Informed Consent Total | 69 |  |  |  | 11.73 |  | 631.44
Grand Total | 69 |  |  |  | 80.73 |  | 4,093.80

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. chapter 35.

Anna P. Guido,
Department Reports Management Office, Office of Policy Development and Research, Chief Data Officer.

[FR Doc. 2024-19738 Filed 9-3-24; 8:45 am]

BILLING CODE 4210-67-P